DEPARTMENT OF DEFENSE

Office of the Secretary

Science, Mathematics, and Research for Transformation (SMART) Defense Education Program

AGENCY: Office of the Under Secretary of Defense for Research and Engineering, DoD.

ACTION: SMART notice.

SUMMARY: The Science, Mathematics, and Research for Transformation (SMART) Defense Education Program is a Department of Defense (DoD) scholarship for service program that was established in 2005 as a means to recruit and retain civilian scientists and engineers working at DoD laboratories and facilities. The initial pilot program was made permanent by Congress in 2006. From 2005 to 2017, the SMART program has awarded 2,386 scholarships across 19 science, technology, engineering, and mathematics (STEM) disciplines (identified by DoD as critical workforce needs) and placed scholars from all 50 states, the District of Columbia, and Puerto Rico at 162 DoD laboratories and facilities. This notice informs the public that applicants are solicited annually to participate in the SMART Program.

FOR FURTHER INFORMATION CONTACT: Tylar Temple: 571-372-6535, email: osd.smart@mail.mil.

SUPPLEMENTARY INFORMATION: The DoD Science, Mathematics, and Research for Transformation (SMART) Defense Education Program, (SMART Program) authorized by 10 U.S.C. 2192a is part of the National Defense Education Program. The SMART Program is public funded using the DoD appropriations and is designed to increase the number of new civilian science, technology, engineering, and mathematics (STEM) entrants to the DoD; in addition the SMART Program develops and retains current DoD civilian STEM employees that are critical to the national security functions of the DoD and are needed in the DoD workforce. SMART Program awards scholarships, ranging from 1 year to 5 years, to undergraduate- and graduate-level students pursuing a degree in one of 19 technical disciplines. Upon graduation, participants fulfill a service commitment with the DoD facility that selected the participant for an award (the sponsoring facility, or SF).

The SMART Program requires a competitive application process. Eligible persons must be U.S. citizens at the time of application, or a citizen of a country the government of which is a party to The Technical Cooperation Program (TTCP) memorandum of understanding of October 24, 1995; be 18 years or older at the time of entry into the program, must participate in summer internships at DoD laboratories; willing to accept post-graduation employment with the DoD, in good standing with a minimum GPA of 3.0 on a 4.0 scale; (2) pursuing an associate, undergraduate or advanced degree in one of the 19 program-funded disciplines, and (3) eligible to obtain and maintain a secret level security clearance.

Each year applicants may apply for the program on line beginning in August at http://smartscholarship.org. The application process closes in December. Starting in 2018, DoD will publish a notice annually in the Federal Register announcing the timeframe for submitting applications. Information is required so that the application may be evaluated for compliance with statutory eligibility requirements, academic merit, and compatibility with DoD workforce needs. See 10 U.S.C. Section 2192a(a). The information collected consists of applications submitted by members of the general public and current DoD personnel who actively choose to become involved in the SMART Program and thus become subject to information collection. The applications may include information on academic records, community and volunteer activities, letters of recommendations from faculty and community leaders, a list of publications, work experience, certification of citizenship and personal contact information. This information is necessary to evaluate and rank each candidate's credentials for awarding scholarships and determining whether the candidate meets specific DoD facility workforce needs. The collection of this information has been approved by the Office of Management and Budget (OMB) in accordance with the requirements of the Paperwork Reduction Act and assigned OMB Control Number 0704-0466.

The DoD Components select SMART Program awardees. SMART Program awards are finalized and communicated to the awardee not later than May 15 of each year, provided monies have been appropriated by Congress. In order to receive financial assistance through the SMART Program, the awardee must sign a service agreement. See 10 U.S.C. Section 2192a(c). The period of obligated service for a recipient of financial assistance is the total period of pursuit of a degree that is covered by such financial assistance. See 10 U.S.C. Section 2192a(c)(2). The period of obligated service is in addition to any other period for which the recipient is obligated to serve in the civil service of the United States. Pursuant to 10 U.S.C. 2192a(d), the Secretary may appoint to the excepted service an individual who successfully completed the SMART program.

A SMART Program participant is in default of the service agreement if the participant (1) voluntarily fails to complete the educational program; (2) fails to maintain satisfactory academic progress; (3) voluntarily terminates employment with the DoD or (4) is removed from employment with DoD on the basis of misconduct. When there is a default of a service agreement, the DoD Component head executing the SMART Program will determine the appropriate amount to be recouped by the United States in accordance with the provisions of 10 U.S.C. 2192a(e).

Dated: February 1, 2019.
Aaron T. Siegel,
Alternate OSD Federal Register Liaison Officer, Department of Defense.

[FR Doc. 2019-01313 Filed 2-5-19; 8:45 am]

BILLING CODE 5001-06-P